DEPARTMENT OF AGRICULTURE

Forest Service

Medicine Bow-Routt National Forests and Thunder Basin National Grassland; Wyoming; 2020 Thunder Basin National Grassland Plan Amendment

AGENCY: Forest Service, USDA.

ACTION: Notice of Grassland Plan amendment approval.

SUMMARY: Russell M. Bacon, Forest Supervisor for the Medicine Bow-Routt National Forests and Thunder Basin National Grassland, Rocky Mountain Region, signed the final Record of Decision (ROD) for the 2020 Thunder Basin National Grassland Land and Resource Management Plan Amendment (Grassland Plan amendment). The Final ROD documents the rationale for approving the Grassland Plan amendment and is consistent with the Reviewing Officer's response to objections and instructions.

DATES: The effective date of the Grassland Plan amendment is 30 days after publication of notice of Grassland Plan amendment approval in the newspaper of record, the Laramie Boomerang.

ADDRESSES: To view the final ROD, final environmental impact statement (FEIS), FEIS errata, objection responses, and other related documents, visit the 2020 Thunder Basin National Grassland Plan Amendment website at https://www.fs.usda.gov/project/?project=55479.

FOR FURTHER INFORMATION CONTACT: Monique Nelson, plan amendment team leader, by email at monique.nelson@usda.gov or by telephone at 307-275-0956.

Individuals who use telecommunication devices for the deaf (TDD) may call the Federal Information Relay Service (FIRS) at 1-800-877-8339 between 8 a.m. and 8 p.m., Eastern Time, Monday through Friday.

SUPPLEMENTARY INFORMATION: The Grassland Plan amendment addresses management of black-tailed prairie dog colonies on National Forest System land within the administrative boundary of the Thunder Basin National Grassland. New and amended plan components remove a 56,000-acre “Black-footed Ferret Reintroduction Habitat” management area and designate a new 42,000-acre “Short-Stature Vegetation Emphasis” management area; set an objective of 10,000 acres of prairie dog colonies for conservation of wildlife habitat; establish prairie dog management zones along boundaries between National Forest System land and private or state properties; allow broader application of tools for prairie dog colony control; and increase emphasis on management of sylvatic plague. The Grassland Plan amendment was informed by the best available scientific information, current laws and regulations, and collaborative relationships with cooperating agencies and stakeholder groups.

Cooperating Agencies

U.S. Fish and Wildlife Service, Wyoming Field Office; Natural Resources Conservation Service, Wyoming State Office; Wyoming Department of Agriculture; Wyoming Game and Fish Department; Wyoming State Office of Lands and Investments; Wyoming Weed and Pest Council; Campbell County, WY; Converse County, WY; Crook County, WY; Niobrara County, WY; Weston County, WY.

Responsible Official

Russell M. Bacon, Forest Supervisor, Medicine Bow Routt National Forests and Thunder Basin National Grassland.

Christine Dawe,
Acting Associate Deputy Chief, National Forest System.

[FR Doc. 2020-26563 Filed 12-1-20; 8:45 am]

BILLING CODE 3411-15-P